SMALL BUSINESS ADMINISTRATION

Privacy Act of 1974: Revision of Privacy Act System of Records

AGENCY: Small Business Administration (SBA).

ACTION: Notice of Revision of Privacy Act Systems of Records.

SUMMARY: SBA is revising the Privacy Act Systems of Records for the Loan System, SBA 21 (“SOR 21”) and the Suspension and Debarment Files, SBA 36 (“SOR 36”), to add new and revised routine uses, to expand the categories of covered individuals and categories of records, and to update the systems' managers and the systems' locations. SBA is also updating Appendix A to the Agency's Systems of Records to reflect recent office relocations. This notice is in accordance with the Privacy Act requirement that agencies publish their amended Systems of Records in the Federal Register when there is a revision, change or addition to the systems.

DATES: Written comments on the revisions to the SBA's SOR 21 and SOR 36 Systems of Records are due April 16, 2012. The changes to these Systems of Records are effective without further notice on April 30, 2012 unless comments are received that result in further revision. Based on SBA's review of comments received, if any, SBA will publish a notice if it determines to make changes to the system notices.

ADDRESSES: Written comments on the revisions to the SBA's SOR 21 and SOR 36 Systems of Records should be directed to Ingrid Ripley, Program Analyst U. S. Small Business Administration, 409 3rd Street, SW., Washington, DC 20416. When submitting comments please identify whether comments are related to SOR 21 or SOR 36.

FOR FURTHER INFORMATION CONTACT: Ingrid Ripley, Program Analyst, (202) 205-7538.

SUPPLEMENTARY INFORMATION: SBA is amending its Privacy Act System of Records Notice, which was previously published at 74 FR 14890 (April 1, 2009), to amend System 21 (Loan System), System 36 (Suspension and Debarment Files), and Appendix A.

System 21—Loan System.

SBA is revising the routine uses provisions of its Privacy Act Systems of Records, Loan System, SBA 21 (“SOR 21”) to add three new uses, designated as paragraphs l, m, and n, to include Loan Agent review processes and additional regulatory processes. The processes include, but are not limited to, the Agency's new processes for: (i) Compiling and reviewing loan agent data, (ii) disclosing to GSA loan agent enforcement actions and exclusions under 13 CFR part 103 for purposes of publication in GSA's Excluded Parties List System, and (iii) disclosing to others (e.g., regulators) SBA supervisory information for regulatory purposes. In addition, SBA is amending SOR 21 to update the SOR 21 System Location and Managers, and Categories of Individuals and Records, to provide a definition for loan agents, and amending routine use lettered “d” regarding disclosure to law enforcement, professional and procurement organizations.

SBA System 36—Suspension and Debarment Files.

SBA is amending the System of Records for Suspension and Debarment Files, SBA 36, (“SOR 36”), to add a new routine use and to update the System Location, System Manager, Categories of Individuals and Categories of Records provisions.

SBA is also amending the routine uses provisions in SOR 36 in order to meet the requirements of Executive Order 12549 and other applicable law. This amendment will allow SBA to transfer certain parties' identifying information to GSA for publication on the Excluded Parties List System (the “EPLS”). The parties whose identifying information will be subject to disclosure to the EPLS are those that have been suspended or debarred from participating in SBA programs, that have agreed to exclusion from participation, or that have been declared ineligible, under 2 CFR Parts 180 and 2700 or other applicable law, or that have been the subject of enforcement actions under Part 103 (other than Loan Agents in SBA Business Loan Programs, which are covered by SOR 21).

SOR 36 currently consists of materials compiled from investigations and/or audits which identify violations which may be cause for suspension or debarment pursuant to the Federal Acquisition Regulations or the government-wide non-procurement suspension and debarment regulations. These materials include indictments, information, plea agreements, judgments, loan agreements, contract documents, etc., that pertain to a party's participation in government contracts, SBA loan programs, and other SBA assistance. Through the EPLS, government agencies and the public can search and ascertain the SBA enforcement or exclusion status of those parties. These searches may be performed, for example, for purposes of determining government contract eligibility. Finally, SBA is amending SOR 36 to expand the System Location to include all of SBA Headquarters, and the System Manager section to include Headquarters Suspension and Debarment officials, is revising the Categories of Records and Categories of Individuals sections, and is amending routine use lettered “a” regarding disclosure to law enforcement, professional and procurement organizations.

Appendix A

Finally, SBA is amending Appendix A to update the addresses of various offices that have been relocated or to remove addresses for those offices that have closed since the list was last published.

Appendix A

Headquarters

409 Third St., SW., Washington, DC 20416.

Boston Regional Office

10 Causeway St., Suite 265, Boston, MA 02222-1093.

New York Regional Office

26 Federal Plaza, Suite 3108, New York, NY 10278.

Philadelphia Regional Office

1150 First Ave., Suite 1001, King of Prussia, PA 19406.

Atlanta Regional Office

233 Peachtree St., NE., Suite 1800, Atlanta, GA 30303.

Chicago Regional Office

500 West Madison St., Suite 1150, Chicago, IL 60661-2511.

Dallas Regional Office

4300 Amon Carter Blvd., Suite 108, Fort Worth, TX 76155.

Kansas City Regional Office

1000 Walnut, Suite 530, Kansas City, MO 64106.

Denver Regional Office

721 19th St., Suite 400, Denver, CO 80202.

San Francisco Regional Office

455 Market St., Suite 600, San Francisco, CA 94105.

Seattle Regional Office

2401 Fourth Ave., Suite 400, Seattle, WA 98121.

SBA District Offices and Branch Offices

Region I

Maine District Office

68 Sewall St., Room 512, Augusta, ME 04330.

Massachusetts District Office

10 Causeway St., Suite 265, Boston, MA 02222-1093.

New Hampshire District Office

55 Pleasant St., Suite 3101, Concord, NH 03301.

Connecticut District Office

330 Main St., 2nd Floor, Hartford, CT 06106.

Vermont District Office

87 State St., Suite 205, Montpelier, VT 05602.

Rhode Island District Office

380 Westminster Mall, Rm. 511, Providence, RI 02903.

Springfield Branch Office

One Federal Street Building 101R, Springfield, MA 01105.

Region II

Buffalo District Office

130 S. Elmwood Ave., Suite 540, Buffalo, NY 14202.

Elmira Branch Office

333 E. Water St., 4th Floor, Elmira, NY 14901.

Long Island Branch Office

350 Motor Parkway, Suite 109, Hauppauge, NY 11788.

New Jersey District Office

Two Gateway Center, Suite 1501, Newark, NJ 07102.

New York District Office

26 Federal Plaza, Rm. 3100, New York, NY 10278.

Puerto Rico & Virgin Islands District Office

273 Ponce De Leon Avenue., Scotiabank Plaza Suite 510, San Juan, Puerto Rico 00917.

Rochester Branch Office

100 State Street, Suite 410, Rochester, NY 14614.

Syracuse District Office

224 Harrison St., Suite 506, Syracuse, NY 13202.

St. Croix Post of Duty

3013 Estate Golden Rock, Rm. 167, Christiansted, VI 00820.

Region III

Maryland District Office

10 S. Howard St., Suite 6220, Baltimore, MD 21201-2525.

Charleston Branch Office

405 Capitol St., Suite 412, Charleston, WV 25301.

West Virginia District Office

320 West Pike St. Suite 330, Clarksburg, WV 26301.

Philadelphia District Office

Parkview Tower, 1150 First Ave., Suite 1001, King of Prussia, PA 19406.

Pittsburgh District Office

411 Seventh Ave., Suite 1450, Pittsburgh, PA 15219-1905.

Richmond District Office

400 North 8th St., Suite 1150, Richmond, VA 23219.

Washington DC District Office

740 15th St., NW., Suite 300, Washington, DC 20005.

Delaware District Office

1007 N. Orange St., Suite 1120, Wilmington, DE 19801-3011.

Region IV

Georgia District Office

233 Peachtree Rd., NE., Suite 1900, Atlanta, GA 30303.

Alabama District Office

801 Tom Martin Dr., Suite 201, Birmingham, AL 35211.

North Carolina District Office

6302 Fairview Rd., Suite 300, Charlotte, NC 28210-2234.

South Carolina District Office

1835 Assembly St., Suite 1425, Columbia, SC 29201.

Gulfport Branch Office

2510 14th St., Suite 103, Gulfport, MS 39501-1949.

Mississippi District Office

Region Plaza, 210 E. Capitol St., Suite 900, Jackson, MS 39201.

North Florida District Office

7825 Baymeadows Way, Suite 100-B, Jacksonville, FL 32256-7504.

Kentucky District Office

600 Dr. M.L. King Jr. Place, Rm. 188, Louisville, KY 40202.

South Florida District Office

100 S. Biscayne Blvd., 7th Floor, Miami, FL 33131.

Tennessee District Office

50 Vantage Way, Suite 201, Nashville, TN 37228-1500.

Region V

Illinois District Office

500 West Madison St., Suite 1150, Chicago, IL 60661-2511.

Cincinnati Branch Office

525 Vine St., Suite 1030, Cincinnati, OH 45202.

Cleveland District Office

1350 Euclid Ave., Suite 211, Cleveland, OH 44115.

Columbus District Office

401 N. Front St, Suite 200, Columbus, OH 43215-2542.

Michigan District Office

477 Michigan Ave., Suite 515, Detroit, MI 48226.

Indiana District Office

8500 Keystone Crossing, Suite 400, Indianapolis, IN 46204-1873.

Wisconsin (Milwaukee) District Office

310 West Wisconsin Ave., Room 400, Milwaukee, WI 53203.

Minnesota District Office

100 North 6th St., 210-C, Minneapolis, MI 55403.

Wisconsin (Madison) District Office

740 Regent St., Suite 100, Madison, WI 53715.

Springfield Branch Office

330 Ginger Creek Road, Suite B, Springfield, IL 62711.

Region VI

New Mexico District Office

625 Silver Ave. SW., Suite 320, Albuquerque, NM 87102.

Corpus Christi Branch Office

3649 Leopard St., Suite 411, Corpus Christi, TX 78408.

Dallas/Ft. Worth District Office

4300 Amon Carter Blvd., Suite 114, Ft Worth, TX 76155.

El Paso District Office

211 North Florence St., 2nd Floor Suite 201, El Paso, TX 79901.

Houston District Office

8701 S. Gessner Dr., Suite 1200, Houston, TX 77074.

Arkansas District Office

2120 Riverfront Dr., Suite 250, Little Rock, AR 72202.

Lower Rio Grande Valley District Office

222 E. Van Buren St., Rm. 500, Harlingen, TX 78550-6855.

Lubbock District Office

1205 Texas Ave., Room 408, Lubbock, TX 79401-2693.

Louisana District Office

365 Canal St., Suite 2820, New Orleans, LA 70130.

Oklahoma District Office

301 Northwest 6th St., Suite 116, Oklahoma City, OK 73102.

San Antonio District Office

17319 San Pedro, Bldg #2, Suite 200, San Antonio, TX 78232.

Region VII

Cedar Rapids Branch Office

2750 1st Ave. NE., Suite 350, Cedar Rapids, IA 52402.

Des Moines District Office

210 Walnut St., Room 749, Des Moines, IA 50309-2186.

Kansas City District Office

1000 Walnut Street, Suite 500, Kansas City, MO 64106.

Nebraska District Office

10675 Bedford Ave., Suite 100, Omaha, NB 68134.

Springfield Branch Office

830 East Primrose, Suite 101, Springfield, MO 65807-5254.

St. Louis District Office

1222 Spruce Street, Suite 10.103, St. Louis, MO 63103.

Wichita District Office

271 West Third St. North, Suite 2500, Wichita, KS 67202-1212.

Region VIII

Wyoming District Office

100 East B Street, Rm. 4001, P.O. Box 44001, Casper, WY 82602.

Colorado District Office

721 19th St., Suite 426, Denver, CO 80202.

North Dakota District Office

657 Second Ave. North, Room 218, Fargo, ND 58108.

Montana District Office

10 West 15th St., Suite 1100, Helena, MT 59626.

Utah District Office

125 South State St., Room 2227, Salt Lake City, UT 84138.

South Dakota District Office

2329 North Career Ave., Suite 105, Sioux Falls, SD 57107.

Region IX

Guam District Office

400 Route 8, Suite 302, Hagatna, GU 96910-2003.

Fresno District Office

801 R St., Suite 201, Fresno, CA 93721.

Hawaii District Office

500 Ala Moana Blvd., Suite 1-306, Honolulu, HI 96813.

Nevada District Office

400 South 4th St., Suite 250, Las Vegas, NV 89101.

Los Angeles District Office

330 North Brand Blvd., Suite 1200, Glendale, CA 91203-2304.

Arizona District Office

2828 North Central Ave., Suite 800, Phoenix, AZ 85004-1025.

Sacramento District Office

6501 Sylvan Rd., Suite 100, Citrus Heights, CA 95610-5017.

San Diego District Office

550 West C St., Suite 550, San Diego, CA 92101-3500.

San Francisco District Office

455 Market St., Suite 600, San Francisco, CA 94105-2445.

Santa Ana District Office

200 West Santa Ana Blvd., Suite 700, Santa Ana, CA 92701.

Region X

Alaska District Office

420 L St., Suite 300, Anchorage, AK 99501.

Boise District Office

380 East Parkcenter Blvd., Suite 330, Boise, ID 83706.

Oregon District Office

601 SW Second Ave., Suite 950, Portland, OR 97204.

Seattle District Office

2401 Fourth Ave., Suite 450, Seattle, WA 98121.

Spokane Branch Office

801 West Riverside, Suite 444, Spokane, WA 99201.

Spokane District Office

801 West Riverside Ave., Suite 200, Spokane, WA 99201-0901.

SBA Disaster Loan Making Centers

DCMS Operations Center

13221 Woodland Park Rd., Herndon, VA 20174.

Disaster Assistance Customer Service Center

130 South Elmwood Avenue Suite 516, Buffalo, NY 14202.

Disaster Field Operations Center—East

101 Marietta Street, Suite 700, Atlanta, GA 30303.

Disaster Loan Processing and Disbursement Center

14925 Kingsport Rd., Fort Worth, TX 76155-2243.

Disaster Field Operations Center—West

P.O. Box 419004, Sacramento, CA 95841-9004.

SBA Disaster Loan Servicing Centers

Birmingham Home Loan Servicing Center

801 Tom Martin Drive, Suite #120, Birmingham, AL 35211.

El Paso Loan Servicing Center

10737 Gateway West, Suite 300, El Paso, TX 79935.

National Disaster Home Resolution Center

200 W. Santa Ana Blvd., Santa Ana, CA 92701.

Commercial Loan Servicing Centers

Fresno Commercial Loan Servicing Center

801 R St., Suite 101, Fresno, CA 93721.

National Disaster Loan Resolution Center

200 West Santa Ana Boulevard, Santa Ana, CA 92701.

Little Rock Commercial Loan Servicing Center

2120 Riverfront Dr., Suite 100, Little Rock, AR 72202.

Office of the Inspector General

Office of Inspector General

409 Third Street SW., Washington, DC 20416.

Office of Inspector General Investigation Division

409 Third Street SW., Washington, DC 20416.

Office of Inspector General Auditing Division

409 Third Street SW., Washington, DC 20416.

Office of Inspector General Counsel Division

409 Third Street SW., Washington, DC 20416.

Office of Inspector General Management & Policy Division

409 Third Street SW., Washington, DC 20416.

Dallas/Fort Worth Inspector General Auditing

4300 Amon Carter Blvd., Suite 116, Fort Worth, TX 76155.

Chicago Inspector General Investigations Division

801 Warrenville Road, Suite 230, Lisle Chicago, IL 60532.

Dallas/Fort Worth Inspector General Investigations Division

4300 Amon Carter Blvd., Suite 116, Fort Worth, TX 76155-2653.

Detroit Inspector General Investigations Division

477 Michigan Avenue, Suite 515, Detroit, MI 48266.

Houston Inspector General Investigations Division

8701 South Gessnar Drive, Suite 1200, Houston, TX 77074.

Kansas City Inspector General Investigations Division

1000 Walnut Street, Suite 510, Kansas City, MO 64106.

Miami Inspector General Investigations Division

Claude Pepper Federal Building, 51 SW 1st Avenue, Suite 1325, Miami, FL 33130.

New Orleans Inspector General Auditing Division and Investigations Divisions

365 Canal Street, Suite 2420, New Orleans, LA 70130.

New York Inspector General Investigations Division

26 Federal Plaza, Rm. 41-100, New York, NY 10278.

Philadelphia Inspector General Investigations Division

Curtis Center Room 860W, 601 Walnut Street, Philadelphia, PA 19106.

Tacoma Inspector General Investigations Division

33400 9th Avenue, Federal Way, WA 98003.

SYSTEM NAME:

Loan System—SBA 21.

SYSTEM LOCATION:

Headquarters, Regional Offices, District Offices, Branch Offices, Processing Centers, Purchase Centers, and Servicing Centers. See Appendix A.

SYSTEM MANAGER AND ADDRESS:

Associate Administrator for Capital Access; Director, Office of Credit Risk Management; Director, Office of Financial Assistance; Regional Administrators; District Directors; Branch Managers; Commercial Loan Service Center Directors; National Guaranty Purchase Center Director; Sacramento Loan Processing Center Director; Standard 7(a) Loan Guaranty Processing Center Directors. See Appendix A.

CATEGORIES OF INDIVIDUALS COVERED BY THE SYSTEM INCLUDE:

Individuals (i.e., borrowers, guarantors, principals of businesses named in loan records, loan agents), throughout the life of SBA's interest in the loan, under all of the Agency's business (non-disaster) loan programs. For purposes of this Systems of Records Notice, “loan agents” means all “Agents” as defined in 13 CFR 103.1(a) that are involved in the business loan process (e.g., loan packagers, brokers, and referral agents).

CATEGORIES OF RECORDS IN THE SYSTEM INCLUDE:

Personal and commercial information (i.e., credit history, financial information, identifying number or other personal identifier, Form 159 information, compliance and enforcement information, and other exclusions) on individuals named in business loan files, including but not limited to Loan Agents, throughout the life of SBA's interest in the loan, under all of the Agency's business (non-disaster) loan programs.

ROUTINE USES OF RECORDS MAINTAINED IN THE SYSTEM INCLUDING CATEGORIES OF USERS AND THE PURPOSES OF SUCH USES:

These records and information in the records may be used, disclosed, or referred:

“d—To the Federal, State, local or foreign agency or professional organization which investigates, prosecutes or enforces violations of statutes, rules, regulations or orders, or which undertakes procurement of goods or services, when SBA determines that disclosure will promote programmatic integrity or protect the public interest.” * * *

“l—To SBA employees, contractors, interns, volunteers, and other regulators or legal authorities for the review of Loan Agent fees and activities and for the review of loans generated by Loan Agents (e.g. for performance and other trends).”

“m—To GSA for publication of Loan Agent suspensions, revocations and exclusions under 13 CFR Part 103 in the Excluded Parties List System consistent with Executive Order 12549 and other applicable law.”

“n—To SBA employees, contractors, interns, volunteers and other regulators for regulatory purposes.”

SYSTEM NAME:

—SUSPENSION AND DEBARMENT FILES—SBA 36

SYSTEM LOCATION:

Headquarters. See Appendix A.

SYSTEM MANAGER AND ADDRESS:

Counsel to the Inspector General or designee; SBA Suspension and Debarment officials. See Appendix A.

CATEGORIES OF INDIVIDUALS COVERED BY THE SYSTEM INCLUDE:

Individuals covered by the system include the parties who have been considered for, recommended for, or subject to (i) suspension and/or debarment under government-wide regulations or (ii) SBA Part 103 enforcement action (other than Loan Agents in SBA Business Loan Programs), and persons providing information relevant to these actions.

CATEGORIES OF RECORDS IN THE SYSTEM INCLUDE:

Records consist of materials compiled from investigations, audits, or other agency activities which identify violations which may be cause for suspension or debarment pursuant to the Federal Acquisition Regulations or the government-wide non-procurement suspension and debarment regulations or enforcement actions under Part 103 suspension or revocation actions. These materials include indictments, information, plea agreements, judgments, contract documents, program or loan applications, agency generated documents, etc., that pertain to a party's participation in SBA government contract programs, SBA loan programs, and other SBA assistance.

ROUTINE USES OF RECORDS MAINTAINED IN THE SYSTEM INCLUDING CATEGORIES OF USERS AND THE PURPOSES OF SUCH USES:

These records and information in the records may be used, disclosed or referred:

“a. To the Federal, State, local or foreign agency or professional organization which investigates, prosecutes or enforces violations of statutes, rules, regulations or orders, or which undertakes procurement of goods or services, when the SBA determines that disclosure will promote programmatic integrity or protect the public interest.” * * *

“o. To GSA for publication of suspensions, debarments, other enforcement actions, and exclusions by SBA in the Excluded Parties List System pursuant to Executive Order 12549 and other applicable law.”

Grady Hedgespeth,
Director, Office Financial Assistance.

[FR Doc. 2012-6467 Filed 3-15-12; 8:45 am]

BILLING CODE 8025-01-P